SECURITIES AND EXCHANGE COMMISSION

Sunshine Act Meeting

Federal Register Citation of Previous Announcement: 73 FR 21165, April 18, 2008.

Status: Open Meeting.

Place: 100 F Street, NE., Washington, DC.

Date and Time of Previously Announced Meeting: April 21, 2008 at 10 a.m.

Change in the Meetings: Date and Time Change.

The Open Meeting scheduled for Monday, April 21, 2008 at 10 a.m., has been changed to Wednesday, May 14, 2008 at 10 a.m.

At times, changes in Commission priorities require alterations in the scheduling of meeting items. For further information and to ascertain what, if any, matters have been added, deleted or postponed, please contact:

The Office of the Secretary at (202) 551-5400.

Dated: April 18, 2008.
Nancy M. Morris,
Secretary.

[FR Doc. E8-8871 Filed 4-23-08; 8:45 am]

BILLING CODE 8010-01-P